POSTAL SERVICE

Privacy Act of 1974; System of Records

AGENCY: Postal Service™.

ACTION: Notice of revisions to an existing system of records.

SUMMARY: The United States Postal Service® (Postal Service) is proposing to revise the Customer Privacy Act Systems of Records (SOR). These changes are being made to improve our ability to meet customer and mailer needs for complete destination/shipping records, and to consistently provide accurate and reliable Proof of Delivery and recipient information.

DATES: These revisions will become effective without further notice on July 5, 2017 unless comments received on or before that date result in a contrary determination.

ADDRESSES: Comments may be mailed or delivered to the Privacy and Records Management Office, United States Postal Service, 475 L'Enfant Plaza SW., Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service™ has determined that one Customer Privacy Act Systems of Records should be revised to modify categories of records in the system, purposes, retention and disposal, and system managers and addresses.

I. Background

Bulk Proof of Delivery (BPOD) provides commercial customers or mailers with the ability to receive signature proof of delivery records for applicable mailpieces without requesting them individually or attaching PS Form 3811, Domestic Return Receipt, on each mailpiece (if applicable). The Postal Service provides records by the delivery tracking data and the delivery date, with recipient information, producing letter facsimiles of delivery records, and presents those to the mailer or the mailer's approved third-party designee in Adobe PDF format electronically.

Proof of Delivery or Return Receipt Electronic (RRE) is a domestic special service that provides customers with an alternative to the PS Form 3811, Domestic Return Receipt. After purchasing a RRE, customers visit USPS.com to enter their item tracking number and the email address where they wish to receive their return receipt. After the item is delivered, the customer is sent a return receipt proof-of-delivery letter via email that includes the date and time of delivery, and recipient information.

II. Rationale for Changes to USPS Privacy Act Systems of Records

Privacy Act System of Records 820.200, System Name: Mail Management and Tracking Activity, is being revised to improve customer and mailer experience with shipping records that include Proof of Delivery information for mailpieces having a USPS Tracking and/or Special Services label and article numbers, by providing more accurate, complete and reliable delivery information.

III. Description of Changes to Systems of Records

Pursuant to 5 U.S.C. 552a(e)(11), interested persons are invited to submit written data, views, or arguments on this proposal. A report of the proposed revisions has been sent to Congress and to the Office of Management and Budget for their evaluations. The Postal Service does not expect these amended systems of records to have any adverse effect on individual privacy rights. The affected systems are as follows:

USPS 820.200

SYSTEM NAME:

Mail Management and Tracking Activity

* * * * *

CATEGORIES OF RECORDS IN THE SYSTEM

[CHANGE TO READ OR RENUMBER]

* * * * *

2. Identification information: Customer ID(s), last four digits of Social Security Number (SSN), mailer ID, advertiser name/ID, username, and password.

3. Recipient information: Name, address and signature of recipient or image of recipient signature.

4. Data on mailings: Paper and electronic data on mailings, including postage statement data (such as volume, class, rate, postage amount, date and time of delivery, mailpiece count), destination of mailing, delivery status, mailing problems, presort information, reply mailpiece information, container label numbers, package label, Special Services label article number or USPS Tracking number, and permit numbers.

5. Payment information: Credit and/or debit card number, type, and expiration date; ACH information.

6. Customer preference data: Hold Mail begin and end date, redelivery date, delivery options, shipping and pickup preferences, drop ship codes, comments and instructions, Bulk Proof of Delivery, Hold For Pickup requests or redirection of mailpieces with a USPS Tracking and/or Special Services label and article number, mailing frequency, preferred delivery dates, and preferred means of contact.

7. Product usage information: Special Services label and article number.

8. Mail images: Images of mailpieces captured during normal mail processing operations

* * * * *

PURPOSES

[CHANGE TO READ]

* * * * *

8. To provide accurate and reliable delivery information.

9. To provide shipping records for mailpieces with a USPS Tracking

and/or Special Service label and article number.

* * * * *

RETRIEVABILITY

[CHANGE TO READ]

By customer name, customer ID(s), logon ID, mailing address(es), 11-digit ZIP Code, any Intelligent Mail barcode, USPS Tracking number or Special Service label and article number.

RETENTION AND DISPOSAL

[CHANGE TO READ]

1. IMb Tracing® records are retained for up to 7 days.

SYSTEM MANAGER(S) AND ADDRESS

[CHANGE TO READ]

Chief Customer and Marketing Officer and Executive Vice President, United States Postal Service, 475 L'Enfant Plaza SW., Washington, DC 20260.

* * * * *

Stanley F. Mires,
Attorney, Federal Compliance.

[FR Doc. 2017-11489 Filed 6-2-17; 8:45 am]

BILLING CODE 7710-12-P